INTERNATIONAL TRADE COMMISSION

[Investigation No. 731-TA-653 (Second Review)]

Sebacic Acid From China

AGENCY: International Trade Commission.

ACTION: Cancellation of the hearing in the full five-year review concerning the antidumping duty order on sebacic acid from China.

DATES: Effective Date: December 3, 2004.

FOR FURTHER INFORMATION CONTACT: Jai Motwane (202) 205-3176, Office of Investigations, U.S. International Trade Commission, 500 E Street SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (http://www.usitc.gov). The public record for this investigation may be viewed on the Commission's electronic docket (EDIS) at http://edis.usitc.gov.

SUPPLEMENTARY INFORMATION:

Background

On July 28, 2004 (69 FR 45075), the Commission published a notice in the Federal Register scheduling a full five-year review concerning the antidumping duty order on sebacic acid from China. The schedule provided for a public hearing on December 7, 2004. A request to appear at the hearing was filed by Arizona Chemicals (“Arizona”) on November 26, 2004. On December 2, 2004, Arizona withdrew its request. As no other requests to appear at the hearing were filed, the Commission determined to cancel the public hearing on sebacic acid from China. The Commission further determined that no earlier announcement of this cancellation was possible.

For further information concerning this review, see the Commission's notice cited above and the Commission's Rules of Practice and Procedure, part 201, subparts A through E (19 CFR part 201), and part 207, subparts A and F (19 CFR part 207).

(Authority: This review is being conducted under authority of title VII of the Tariff Act of 1930; this notice is published pursuant to sections 201.35 and 207.62 of the Commission's rules.)

Issued: December 3, 2004.
By order of the Commission.
Marilyn R. Abbott,
Secretary to the Commission.

[FR Doc. 04-26949 Filed 12-8-04; 8:45 am]

BILLING CODE 7020-02-P